NUCLEAR REGULATORY COMMISSION

[NRC-2017-0127]

Information Collection: Licenses and Radiation Safety Requirements for Irradiators

AGENCY: Nuclear Regulatory Commission.

ACTION: Notice of submission to the Office of Management and Budget; request for comment.

SUMMARY: The U.S. Nuclear Regulatory Commission (NRC) has recently submitted a request for a renewal of an existing collection of information to the Office of Management and Budget (OMB) for review. The information collection is entitled, “Licenses and Radiation Safety Requirements for Irradiators.”

DATES: Submit comments by December 18, 2017.

ADDRESSES: Submit comments directly to the OMB reviewer at: Brandon De Bruhl, Desk Officer, Office of Information and Regulatory Affairs (OMB 3150-0158), NEOB-10202, Office of Management and Budget, Washington, DC 20503; telephone: 202-395-0710, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2017-0127 when contacting the NRC about the availability of information for this action. You may obtain publicly-available information related to this action by any of the following methods:

• Federal Rulemaking Web Site: Go to http://www.regulations.gov and search for Docket ID NRC-2017-0127.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement is available in ADAMS under Accession No. ML17276B478.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@nrc.gov.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that the NRC does not routinely edit comment submissions to remove such information before making the comment submissions available to the public or entering the comment submissions into ADAMS.

II. Background

Under the provisions of the Paperwork Reduction Act of 1995 (44 U.S.C. Chapter 35), the NRC recently submitted a request for renewal of an existing collection of information to OMB for review entitled, “Licenses and Radiation Safety Requirements for Irradiators.” The NRC hereby informs potential respondents that an agency may not conduct or sponsor, and that a person is not required to respond to, a collection of information unless it displays a currently valid OMB control number.

The NRC published a Federal Register notice with a 60-day comment period on this information collection on July 27, 2017 (82 FR 34994).

1. The title of the information collection: 10 CFR part 36 “Licenses and Radiation Safety Requirements for Irradiators.”

2. OMB approval number: 3150-0158.

3. Type of submission: Extension.

4. The form number if applicable: N/A.

5. How often the collection is required or requested: Applications for new licenses and amendments may be submitted at any time (on occasion). Applications for renewal are submitted every 10 years. Reports are submitted as events occur.

6. Who will be required or asked to respond: Applicant for and holders of specific licenses authorizing the use of licensed radioactive material for irradiators.

7. The estimated number of annual responses: 2,389.

8. The estimated number of annual respondents: 70.

9. An estimate of the total number of hours needed annually to comply with the information collection requirement or request: 42,612.

10. Abstract: Part 39 of title 10 of the Code of Federal Regulations (10 CFR), establishes radiation safety requirements for the use of radioactive material for irradiators. The information in the applications, reports and records is used by the NRC staff to ensure that the health and safety of the public is protected and that the licensee possession and use of source or byproduct material is in compliance with license and regulatory requirements.

Dated at Rockville, Maryland, this 13th day of November, 2017.
For the Nuclear Regulatory Commission.
David Cullison,
NRC Clearance Officer, Office of the Chief Information Officer.

Subject: Information Collection: Licenses and Radiation Safety Requirements for Irradiators

ADAMS Accession No. ML17276B480 (FRN)

To receive a copy of this document, indicate in the box: “C” = Copy without attachment/enclosure “E” = Copy with attachment/enclosure “N” = No copy

OFFICE | NMSS | N | NMSS |  | OCIO |
NAME | Lymari Sepulveda |  | Hipolito Gonzalez |  |
DATE | 10/03/2017 |  | 10/3/2017 |  | 11/13/2017

OFFICIAL RECORD COPY

[FR Doc. 2017-24987 Filed 11-16-17; 8:45 am]

BILLING CODE 7590-01-P